DEPARTMENT OF COMMERCE

Foreign-Trade Zones Board

[Docket 51-2005]

Foreign-Trade Zone 202- Los Angeles, California, Request for Processing Authority, Citizen Watch Company of America, Inc. (Watches)

An application has been submitted to the Foreign-Trade Zones Board (the Board) by the Port of Los Angeles, California, grantee of FTZ 202, requesting authority on behalf of Citizen Watch Company of America, Inc. (Citizen) for the processing and packaging of watches under FTZ procedures within Site 7 of FTZ 202 in Torrance, California. The application was submitted pursuant to the provisions of the Foreign-Trade Zones Act, as amended (19 U.S.C. 81a-81u), and the regulations of the Board (15 Cfr part 400). It was formally filed on October 19, 2005.

Citizen operates a distribution facility (182 employees) for the warehousing, packaging and distribution of watches. The company's application indicates that the duty rates for finished watches range from duty-free to 6 percent (ad valorem equivalent). Foreign-sourced inputs include imported gift boxes, watch bands, watch cases and other materials with duty rates ranging from duty-free to 20 percent.

This application requests authority to allow Citizen to conduct activities under FTZ procedures, which would exempt the company from Customs duty payments on the foreign components used in export activity. On its domestic sales, the company would be able to choose the duty rate that applies to finished products for the foreign components noted above. Citizen's application indicates that the savings from zone procedures could help improve the company's international competitiveness.

Public comment on the application is invited from interested parties. Submissions (original and three copies) shall be addressed to the Board's Executive Secretary at the following addresses:

1. Submission Via Express/Package Delivery Services: Foreign-Trade Zones Board, U.S. Department of Commerce, Franklin Court Building - Suite 4100W, 1099 14th St., NW, Washington, DC 20005; or

2. Submission Via the U.S. Postage Service: Foreign-Trade Zones Board, U.S. Department of Commerce, FCB - Suite 4100W, 1401 Constitution Ave., NW, Washington, DC 20230.

The closing period for their receipt is December 27, 2005. Rebuttal comments in response to material submitted during the foregoing period may be submitted during the subsequent 15-day period (to January 9, 2006.

A copy of the application and accompanying exhibits will be available for public inspection at the Office of the Foreign-Trade Zones Board's Executive Secretary at address Number 1 listed above, and at the Department of Commerce Export Assistance Center, 11150 West Olympic Blvd., Suite 975, Los Angeles, CA 90064.

Dated: October 19, 2005.
Dennis Puccinelli,
Executive Secretary.

[FR Doc. 05-21386 Filed 10-25-05; 8:45 am]

BILLING CODE 3510-DS-S